DEPARTMENT OF THE INTERIOR

National Park Service

[NPS-WASO-NAGPRA-NPS0030554; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Federally-recognized Indian Tribes, and has determined that there is no cultural affiliation between the human remains and associated funerary objects and any present-day Federally-recognized Indian Tribes. Representatives of any Federally-recognized Indian Tribe not identified in this notice that wish to request transfer of control of these human remains and associated funerary objects should submit a written request to the TVA. If no additional requestors come forward, transfer of control of the human remains and associated funerary objects to the Federally-recognized Indian Tribe stated in this notice may proceed.

DATES: Representatives of any Federally-recognized Indian Tribe not identified in this notice that wish to request transfer of control of these human remains and associated funerary objects should submit a written request with information in support of the request to the TVA at the address in this notice by September 8, 2020.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN, and stored at the McClung Museum of Natural History and Culture (MM) at the University of Tennessee, Knoxville, TN. The human remains and associated funerary objects were excavated from 40BN74, the Cherry archeological site, in Benton County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Cherokee Nation; Coushatta Tribe of Louisiana; Eastern Band of Cherokee Indians; The Chickasaw Nation; The Muscogee (Creek) Nation; The Osage Nation (previously listed as Osage Tribe); The Seminole Nation of Oklahoma; Thlopthlocco Tribal Town; and the United Keetoowah Band of Cherokee Indians in Oklahoma (hereafter referred to as “The Consulted Tribes”).

History and Description of the Remains

Site 40BN74 was excavated as part of TVA's Big Sandy Creek dewatering project by the University of Tennessee, using labor and funds provided by the Works Progress Administration. Details regarding these excavations have not been published. A field report by Douglas Osborn regarding this site can be found at the MM and TVA. The human remains and associated funerary objects listed in this notice have been in the physical custody of the University of Tennessee since excavation.

During August and September of 1941, human remains representing, at minimum, 81 individuals were removed from site 40BN74, in Benton County, TN. These human remains represent 17 females, 17 males and 47 individuals of undeterminable sex. They also represent adults, sub-adults, and infants. No known individuals were identified. The 612 associated funerary objects include seven animal bones, five antler fragments, four antler projectile points, one antler section, three antler tools, one awl splinter, eight bone awls, one bone bead, four bone pins, three bone shaft wrenches, one bone whistle, one Busycon shell spoon, one chert awl, one chert blade, one chert knife, one conch shell dipper, one crinoid bead, one cut deer humerus, one deer metapodial bone, one discoidal shell bead, three dog burials, 158 gastropod beads, one horn drift, 18 huckleberry seeds, one Ledbetter projectile point, one mussel shell spoon, one pink quartzite bead, 11 projectile points, one projectile point base, one sample of red ochre, one rodent tooth, one scrapper fragment, two shells, three shell or bone beads, 26 shell beads, two shell pendants, 14 snail shells, 13 snake vertebrae, 140 spherical shells, one stone bead, one stone drill, one tubular pipe, one turtle plastron, two turtle shell bracelets, and 161 worked gastropod shells.

Site 40BN74 contained abundant pits (44) that Osborne divided into three types. One type comprised small circular or irregular-shaped pits that often contained burials. A second type included circular pits extending 2-4 feet into the subsoil that were not obviously fire pits. The third type was represented by very large pits that, as Osborne suggested, might be the remains of semi-subterranean pit houses.

In his 2014 dissertation, Thaddeus Bissett presented three radiocarbon dates from this site—6975 ± 90 BP, 6153 ± 77 BP, and 7088 ± 87 BP. According to Bissett, the available evidence indicates that the primary occupation of 40BN74 was during the Late Archaic.

Determinations Made by the Tennessee Valley Authority

Officials of the Tennessee Valley Authority have determined that:

• Pursuant to 25 U.S.C. 3001(9), the human remains described in this notice are Native American based on their presence in a prehistoric archeological site and osteological analysis.

• Pursuant to 25 U.S.C. 3001(9), the human remains described in this notice represent the physical remains of 81 individuals of Native American ancestry.

• Pursuant to 25 U.S.C. 3001(3)(A), the 612 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• The Treaty of October 19, 1818, indicates that the land from which the cultural items were removed is the aboriginal land of The Chickasaw Nation.

• Pursuant to 43 CFR 10.11(c)(1)(ii), the disposition of the human remains may be to The Chickasaw Nation.

• Pursuant to 43 CFR 10.11(c)(4), the Tennessee Valley Authority has agreed to transfer control of the associated funerary objects to The Chickasaw Nation.

Additional Requestors and Disposition

Representatives of any Federally-recognized Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by September 8, 2020. After that date, if no additional requestors have come forward, transfer of control of the human remains and associated funerary objects to The Chickasaw Nation may proceed.

The Tennessee Valley Authority is responsible for notifying The Consulted Tribes that this notice has been published.

Dated: June 30, 2020.
Melanie O'Brien,
Manager, National NAGPRA Program.

[FR Doc. 2020-17171 Filed 8-5-20; 8:45 am]

BILLING CODE 4312-52-P